DEPARTMENT OF AGRICULTURE

DEPARTMENT OF THE INTERIOR

Bureau of Indian Affairs

[222A2100DD/AAKC001030/A0A501010.999900 253G]

Notice of Consultations on Federal Subsistence Policy in Alaska

AGENCY: Department of Agriculture; Office of the Assistant Secretary—Indian Affairs, Interior.

ACTION: Notice of Tribal and Alaska Native corporation consultation sessions.

SUMMARY: The U.S. Department of the Interior and the U.S. Department of Agriculture (Departments) recognize that subsistence is vital to the cultures and life ways of Alaska Natives and Alaska Native communities. Under Title VIII of the Alaska National Interest Lands Conservation Act (ANILCA), the Secretary of the Interior and the Secretary of Agriculture jointly implement the Federal Subsistence Management Program. This program provides a preference for take of fish and wildlife resources for subsistence uses on Federal public lands and waters in Alaska. In accordance with The White House Tribal Nations Summit Progress Report, the Departments will jointly conduct consultation sessions with federally recognized Tribes and with Alaska Native corporations on Federal subsistence policy in Alaska.

DATES: Consultations: The Departments will conduct consultations with Tribes, Tribal consortia, and Alaska Native organizations on Thursday, January 20, 2022, and Friday, January 21, 2022, from 11 a.m. to 1 p.m. AKST, and with Alaska Native regional and village corporations on Friday, January 28, 2022, from 11 a.m. to 1 p.m. AKST.

Written comments: To ensure consideration, written comments must be submitted via email by Tuesday, February 15, 2022, at 11:59 p.m. ET.

ADDRESSES: Consultations: The Departments' Tribal and Alaska Native corporation consultations will be held via Zoom and telephone. Please see Tribal Consultation and Comment under SUPPLEMENTARY INFORMATION, below, for details.

Written comments: Written comments must be submitted via email to consultation-ak@ios.doi.gov, with the subject line “Subsistence Consultation.”

FOR FURTHER INFORMATION CONTACT: Rose Petoskey, Senior Counselor to the Assistant Secretary-Indian Affairs, telephone: (202) 208-7163, or 800-877-8339 (TTY); email: rose.petoskey@bia.gov.

SUPPLEMENTARY INFORMATION: The Departments will conduct virtual consultations with Tribes, Tribal consortia, Alaska Native organizations, and Alaska Native regional and village corporations on Federal subsistence policy. The listening session and consultations reflect the Departments' commitment to strengthen government-to-government relationships with federally recognized Tribes and meet requirements for consultation with Alaska Native corporations. The Departments' procedures for outreach, notice, and consultation ensure involvement of Tribes and Alaska Native corporations, to the extent practicable and permitted by law, before making decisions or implementing policies, rules, or programs that affect federally recognized Tribal governments or Alaska Native corporation interests. These consultations are open to official representatives of federally recognized Tribes and Alaska Native corporations. Further detail will be provided in the invitation letters.

Background

Under Title VIII of the Alaska National Interest Lands Conservation Act (ANILCA) (16 U.S.C. 3111-3126), the Secretary of the Interior and the Secretary of Agriculture (Secretaries) jointly implement the Federal Subsistence Management Program. This program provides a preference for take of fish and wildlife resources for subsistence uses on Federal public lands and waters in Alaska. The Secretaries published temporary regulations to carry out this program in the Federal Register on June 29, 1990 (55 FR 27114), and published final regulations in the Federal Register on May 29, 1992 (57 FR 22940). The program regulations have subsequently been amended a number of times. Because this program is a joint effort between Interior and Agriculture, these regulations are located in two titles of the Code of Federal Regulations (CFR): Title 36, “Parks, Forests, and Public Property,” and Title 50, “Wildlife and Fisheries,” at 36 CFR 242.1-242.28 and 50 CFR 100.1-100.28, respectively. The regulations contain subparts as follows: Subpart A, General Provisions; Subpart B, Program Structure; Subpart C, Board Determinations; and Subpart D, Subsistence Taking of Fish and Wildlife.

Tribal Consultation and Comment

As expressed in Executive Order 13175, “Consultation and Coordination with Indian Tribal Governments,” the Departments are committed to honoring the unique government-to-government political relationship that exists between the Federal Government and federally recognized Indian Tribes (Tribes) as listed at 86 FR 7554 (January 29, 2021).

Consultation with Alaska Native corporations is based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The ANILCA does not provide specific rights to Tribes for the subsistence taking of wildlife, fish, and shellfish. However, because Tribal members are affected by Federal subsistence policy, the Secretaries are consulting with federally recognized Tribes and Alaska Native corporations.

The Departments are seeking Tribal and Alaska Native corporation perspectives pertaining to the following questions:

1. How has climate change affected subsistence? What changes could be made to subsistence policies, regulations, or laws to help you adapt to those changes?

2. How can Federal agencies better cooperate with Alaska Native Tribes, Alaska Native consortia, Alaska Native organizations, and Alaska Native corporations to promote subsistence harvest opportunities and protect habitat?

3. How does the state management regime affect implementation of the Federal priority for rural residents?

4. How can the Federal Subsistence Board and the Federal Subsistence Program be changed to better accommodate subsistence needs?

5. How should the Federal Subsistence Board define rural residents for purposes of the Federal subsistence priority?

6. What difficulties have you experienced in accessing subsistence resources?

The Departments' Tribal and Alaska Native corporation consultations will be held via Zoom and telephone as follows:

• On Thursday, January 20, 2022, from 11 a.m. to 1 p.m. AKST. The consultation is open to Tribes and Tribal consortia. Please register in advance using following Zoom link: https://www.zoomgov.com/meeting/register/vJItc-ivpjgrEplmxYnru1AOR773ePbx65U. You may also join by telephone by using the following dial-in information: 1 (669) 254-5252, Meeting ID: 1604178318, Passcode: 598591; or 1 (646) 828-7666, Meeting ID: 1604178318, Passcode: 598591.

• On Friday, January 21, 2022, from 11 a.m. to 1 p.m. AKST. The consultation is open to Tribes, Tribal consortia, and Alaska Native organizations. Please register in advance using following Zoom link: https://www.zoomgov.com/meeting/register/vJItdOGgqTgsHRk7c4Rxe4bu3OyF_aEw_F8. You may also join by telephone by using the following dial-in information: 1 (669) 254-5252, Meeting ID: 1603887367, Passcode: 905674; or 1 (646) 828-7666, Meeting ID: 1603887367, Passcode: 905674.

• On Friday, January 28, 2022, from 11 a.m. to 1 p.m. AKST. The consultation is open to Alaska Native regional and village corporations. Please register in advance using following Zoom link: https://www.zoomgov.com/meeting/register/vJItceivrz0tH97YP3lOioApp4DvFTrniW0. You may also join by telephone by using the following dial-in information: 1 (669) 254-2525, Meeting ID: 1606171675, Passcode: 956167; or 1 (646) 828-7666, Meeting ID: 1606171675, Passcode: 956167.

Reasonable Accommodations

The Departments are committed to providing access to these meetings for all participants. Please direct all requests for sign language interpreting services, closed captioning, or other accommodation needs to Rose Petoskey, telephone: (202) 208-7163, or 800-877-8339 (TTY); email: rose.petoskey@bia.gov.

Heather Dawn Thompson,
Director, Office of Tribal Relations, U.S. Department of Agriculture.
Raina Thiele,
Senior Advisor to the Secretary, Alaska Affairs & Strategic Priorities, U.S. Department of the Interior.
Bryan Newland,
Assistant Secretary—Indian Affairs, U.S. Department of the Interior.

[FR Doc. 2022-01164 Filed 1-18-22; 4:15 pm]

BILLING CODE 4337-15-P